DEPARTMENT OF COMMERCE

International Trade Administration

Notice Requesting Comments on Intellectual Property Protection at Trade Events

Authority: 15 U.S.C. 4721, 4724; 22 U.S.C. 2452(a)(3); Pub. L. 86-14 (73 Stat. 18); Pub. L. 91-269 (84 Stat. 272).

AGENCY: International Trade Administration, Department of Commerce.

ACTION: Notice requesting comments on intellectual property protection at trade events.

SUMMARY: The U.S. Department of Commerce requests comments from interested parties regarding issues related to Intellectual Property Rights (IPR) protection at trade events, including policies and current practices, and problems of infringement.

DATES: Comments should be received within 30 days from the date this notice appears in the Federal Register. Comments received after 30 days will be considered to the extent practicable.

ADDRESSES: The U.S. Department of Commerce, Room 2118, HCHB, 14th Street and Constitution Avenue, NW., Washington, DC 20230, Attn: Donald Huber; or e-mail to: dhuber@mail.doc.gov.

FOR FURTHER INFORMATION CONTACT: Donald Huber at Tel: 202-482-2525; e-mail: dhuber@mail.doc.gov.

SUPPLEMENTARY INFORMATION: Secretary of Commerce Carlos M. Gutierrez recently unveiled several new programs to fight intellectual property theft under the Administration's Strategy Targeting Organized Piracy (STOP!) initiative. As one component of this initiative, the Commerce Department is considering what steps to take to strengthen awareness and protection of IPR at Commerce-supported trade events, including trade fairs, expositions, and shows, both internationally and domestically. Specifically, the Department is considering to require, as a condition of its support for a trade event, that the organizer adopt a reasonable IPR policy and that the exhibitors agree to abide by such a policy and to attest that they have the necessary authority for their use of intellectual property at the event. (Commerce programs include the Trade Fair Certification Program and the International Buyer Program.)

In order to determine how best to strengthen IPR awareness and protection at trade events, the Department seeks input from trade events organizers and other interested parties to assist in assessing the breadth of the IPR protection problem at trade events generally; current private sector policies and practices regarding IPR protection at trade events; and what additional actions might be taken to address IPR problems.

The Department is particularly interested in:

1. The frequency and nature of IPR infringement incidents that they believe occur at trade events, including specific instances where they have experienced problems with IPR violations at a trade event;

2. any measures or written policies that trade events organizers currently implement pertaining to IPR protection; and

3. the benefits, and burdens, of the Department initiating reasonable IPR policies at trade events that it supports.

In particular, Commerce is interested in learning about existing private sector IPR protection policies or procedures used for trade events, including the nature of those policies; whether those policies apply to exhibitors, attendees, or both; and how such policies are enforced (e.g., organizer action or recourse to traditional legal remedies). Submission of a copy of any IPR policies or statements, whether in promotional literature and in exhibitor or attendee contracts, would be very useful to Commerce agencies in considering the need for and content of a policy that might apply to DOC-sponsored trade events.

Comments should be submitted in accordance with the information above. Comments received will be made available to the public. Commentators should not send confidential or proprietary information in response to this notice, as DOC may not be able to protect it from public disclosure.

Dated: January 4, 2006.
Donald L. Huber,
Acting Executive Director, Global Trade Programs, U.S. and Foreign Commercial Service, International Trade Administration, U.S. Department of Commerce.

[FR Doc. E6-208 Filed 1-11-06; 8:45 am]

BILLING CODE 3510-FP-P